DEPARTMENT OF ENERGY

Federal Energy Regulatory Commission

[Docket No. IC15-12-000]

Commission Information Collection Activities (FERC-725); Comment Request; Extension

AGENCY: Federal Energy Regulatory Commission, DOE.

ACTION: Notice of information collection and request for comments.

SUMMARY: In compliance with the requirements of the Paperwork Reduction Act of 1995, 44 U.S.C. 3506(c)(2)(A), the Federal Energy Regulatory Commission (Commission or FERC) is soliciting public comment on the currently approved information collection, FERC-725 [Certification of Electric Reliability Organization; Procedures for Electric Reliability Standards].

DATES: Comments on the collection of information are due October 20, 2015.

ADDRESSES: You may submit comments (identified by Docket No. IC15-12-000) by either of the following methods:

• eFiling at Commission's Web site: http://www.ferc.gov/docs-filing/efiling.asp

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-725, Certification of Electric Reliability Organization; Procedures for Electric Reliability Standards

OMB Control No.: 1902-0225

Type of Request: Three-year extension of the FERC-725 information collection requirements with no changes to the current reporting requirements.

Abstract: The FERC-725 information collection contains the following information collection elements:

• Self Assessment and Electric Reliability Organization (ERO) Application: The Commission requires the ERO to submit to FERC a performance assessment report every five years. The next assessment is due in 2019. Each Regional Entity submits a performance assessment report to the ERO. Submitting an application to become an ERO is also part of this collection.¹

¹ The Commission does not expect any new ERO applications to be submitted in the next five years and is not including any burden for this requirement in the burden estimate. FERC still seeks to renew the regulations pertaining to a new ERO application under this renewal but is expecting the burden to be zero for the foreseeable future. 18 CFR 39.3 contains the regulation pertaining to ERO applications.

• Reliability Assessments: 18 CFR 39.11 requires the ERO to assess the reliability and adequacy of the Bulk-Power System in North America. Subsequently, the ERO must report to the Commission on its findings. Regional entities perform similar assessments within individual regions. Currently, the ERO submits to FERC three assessments each year: long term, winter, and summer. In addition, NERC also submits various other assessments as needed.

• Reliability Standards Development: Under Section 215 of the Federal Power Act (FPA), the ERO is charged with developing Reliability Standards. Regional Entities may also develop regional specific standards. Reliability Standards are one of the three principal mechanisms provided to FERC to ensure reliability on the Bulk-Power System.

• Reliability Compliance: Reliability Standards are mandatory and enforceable upon approval by FERC. In addition to the specific information collection requirements contained in each Reliability Standard (cleared under other information collections), there are general compliance, monitoring and enforcement information collection requirements imposed on applicable entities. Audits, spot checks, self-certifications, exception data submittals, violation reporting, and mitigation plan confirmation are included in this area.

• Stakeholder Survey: The ERO uses a stakeholder survey to solicit feedback from registered entities ² in preparation for its three year and five year self-performance assessment. The Commission assumes that the ERO will perform another survey prior to the 2019 self- assessment.

² A “registered entity” is an entity that is registered with the ERO. All Bulk-Power System owners, operators and users are required to register with the ERO. Registration is the basis for determining the Reliability Standards with which an entity must comply. See http://www.nerc.com/page.php?cid=3%7C25 for more details.

• Other Reporting: This category refers to all other reporting requirements imposed on the ERO or regional entities in order to comply with the Commission's regulations. For example, FERC may require NERC to submit a special reliability assessment. This category is mentioned to capture these types of one-time filings required of NERC or the Regions.

The Commission implements its responsibilities through 18 CFR part 39. Without the FERC-725 information, the Commission, ERO, and Regional Entities will not have the data needed to determine whether sufficient and appropriate measures are being taken to ensure the reliability of the nation's electric grid.

Type of Respondents: ERO and regional entities

Estimate of Annual Burden: ³ The Commission estimates the annual public reporting burden for the information collection as:

³ The Commission defines burden as the total time, effort, or financial resources expended by persons to generate, maintain, retain, or disclose or provide information to or for a Federal agency. For further explanation of what is included in the information collection burden, reference 5 Code of Federal Regulations 1320.3.

FERC-725—Certification of the ERO; Procedures for Electric Reliability Standards
Type of respondent | Type of reporting requirement | Number of respondents | Number of responses per respondent | Total number of responses | Average burden hours & cost per response | Estimated total annual burden & cost
|  | (A) | (B) ⁴ | (A) × (B) = (C) | (D) | (C) × (D)
Electric Reliability Organization (ERO) ¹ | Self-Assessment |  | .2 | .2 | 7,800 ⁵ $574,704 | 1,560 $114,941
| Reliability Assessments |  | 5.5 | 5.5 | 15,600 ⁵ $1,149,408 | 85,800 $6,321,744
| Reliability Compliance |  | 2 | 2 | 12,480 ⁵ $919,526 | 24,960 $1,839,053
| Standards Development |  | 1 | 1 | 28,080 ⁶ $1,865,916 | 28,080 $1,865,916
| Other Reporting | 1 | 1 | 1 | 2080 ⁷ $270,130 | 2,080 $270,130
Regional Entities | Self-Assessment |  | .2 | 1.6 | 16,640 ⁶ $1,105,728 | 26,624 $1,769,164
| Reliability Assessments |  | 1 | 8 | 15,600 ⁶ $1,036,620 | 124,800 $8,292,960
| Reliability Compliance |  | 1 | 8 | 40,560 ⁵ $2,988,461 | 324,480 $23,907,688
| Standards Development |  | 1 | 8 | 2,340 ⁶ $155,493 | 18,720 $1,243,944
| Other Reporting | 8 | 1 | 8 | 1,040 ⁷ $135,065 | 8,320 $1,080,520
Registered Entities | Stakeholder Survey |  | .2 | 289 | 8 ⁵ $589 | 2,312 $170,221
| Reliability Compliance | estimated 1446 | 1 | 1446 | 400 ⁵ $29,472 | 578,400 $42,616,512
Subtotals: |  |  |  |  |  | ERO Regional Registered | N/A |  |  |  |  | 142,480 hrs. 502,944 hrs. 580,712 hrs.
Total Burden Hours |  |  |  |  |  | 1,226,136 hrs.
Total Cost |  |  |  |  |  | $89,492,791

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁴ In all instances below where the number of responses per respondent is “1” the Commission acknowledges that actual number of responses varies and cannot be estimated clearly.

⁵ Uses the weighted hourly average wage (salary plus benefits) for electrical engineers and lawyers obtained from the Bureau of Labor Statistics (data for May 2014, posted on 4/1/2015 at http://www.bls.gov/oes/current/naics2_22.htm): $91.82/hour. The weighted average used the following calculation: [(0.20) * ($129.87) + (0.60) * ($66.45) + (0.2) * ($39.18)] = $73.68. $129.87/hour is the wage for lawyers. $66.45/hour is the wage for engineers. $39.17/hour is the wage for office and administrative support. Occupation codes are 23-0000, 17-2071, and 43-0000 respectively.

⁶ Uses the hourly average wage (salary plus benefits) for electrical engineers obtained from the Bureau of Labor Statistics (data for May 2014, posted on 4/1/2015 at http://www.bls.gov/oes/current/naics2_22.htm): $66.45/hour. Occupation code is 17-2071.

⁷ Uses the hourly average wage (salary plus benefits) for lawyers obtained from the Bureau of Labor Statistics (data for May 2014, posted on 4/1/2015 at http://www.bls.gov/oes/current/naics2_22.htm): $129.87/hour. Occupation code is 23-0000.

Dated: August 17, 2015.
Kimberly D. Bose,
Secretary.

[FR Doc. 2015-20744 Filed 8-20-15; 8:45 am]

BILLING CODE 6717-01-P